DEPARTMENT OF HEALTH AND HUMAN SERVICES

Meeting of the Secretary's Advisory Committee on Human Research Protections

AGENCY: Office of the Assistant Secretary for Health, Office of the Secretary, Department of Health and Human Services.

ACTION: Notice.

SUMMARY: Pursuant to the Federal Advisory Committee Act, notice is hereby given that the Secretary's Advisory Committee on Human Research Protections (SACHRP) will hold a meeting that will be open to the public. Information about SACHRP, the full meeting agenda, and instructions for linking to public access will be posted on the SACHRP website at http://www.dhhs.gov/ohrp/sachrp-committee/meetings/index.html.

DATES: The meeting will be held on Wednesday, October 18, 2023, from 9:00 a.m. until 5:00 p.m., and Thursday, October 19, 2023, from 9:00 a.m. until 4:00 p.m. (times are tentative and subject to change). The confirmed times and agenda will be posted on the SACHRP website as this information becomes available.

ADDRESSES: This meeting will be held in person and webcast. Members of the public may also attend the meeting via webcast. Instructions for attending via webcast will be posted at least one week prior to the meeting at https://www.hhs.gov/ohrp/sachrp-committee/meetings/index.html.

FOR FURTHER INFORMATION CONTACT: Julia Gorey, J.D., Executive Director, SACHRP; U.S. Department of Health and Human Services, 1101 Wootton Parkway, Suite 200, Rockville, Maryland 20852; telephone: 240-453-8141; fax: 240-453-6909; email address: SACHRP@hhs.gov.

SUPPLEMENTARY INFORMATION: Under the authority of 42 U.S.C. 217a, section 222 of the Public Health Service Act, as amended, SACHRP was established to provide expert advice and recommendations to the Secretary of Health and Human Services, through the Assistant Secretary for Health, on issues and topics pertaining to or associated with the protection of human research subjects.

The Subpart A Subcommittee (SAS) was established by SACHRP in October 2006 and is charged with developing recommendations for consideration by SACHRP regarding the application of subpart A of 45 CFR part 46 in the current research environment.

The Subcommittee on Harmonization (SOH) was established by SACHRP at its July 2009 meeting and charged with identifying and prioritizing areas in which regulations and/or guidelines for human subjects research adopted by various agencies or offices within HHS would benefit from harmonization, consistency, clarity, simplification and/or coordination.

The SACHRP meeting will open to the public at 9:00 a.m., on Wednesday, October 18, 2023, followed by opening remarks from Julie Kaneshiro, Acting Director of OHRP and Dr. Douglas Diekema, SACHRP Chair. The meeting will begin with an expert panel discussion on the ethical and regulatory considerations for the inclusion of LGBTQI+ populations in HHS research. This will be followed by discussion of IRB effectiveness, topic #4 of the recently published GAO report #GAO-23-104721, Institutional Review Boards: Actions Needed to Improve Federal Oversight and Examine Effectiveness. The meeting then will turn to a discussion of the best interests standard for permitting continued participation of subjects in a suspended or terminated research study. Following this the committee will discuss IRB review of research that may be considered uninformative.

On Thursday, October 19th, the committee will welcome ADM Rachel Levine for commentary and remarks; this will be followed by continued discussion of the previous day's topics. The meeting will adjourn by 4:00 p.m. October 19, 2023.

Time will be allotted for public comment on both days of the meeting. The public may submit written public comment in advance to SACHRP@hhs.gov no later than midnight October 13, 2023, ET. Written comments will be shared with SACHRP members and may read aloud during the meeting. Public comment must be relevant to topics being addressed by the SACHRP.

Dated: September 13, 2023.
Julia G. Gorey,
Executive Director, SACHRP. Office for Human Research Protections.

[FR Doc. 2023-20577 Filed 9-21-23; 8:45 am]

BILLING CODE 4150-36-P